DEPARTMENT OF COMMERCE

International Trade Administration

[A-570-079]

Cast Iron Soil Pipe From the People's Republic of China: Postponement of Preliminary Determination in the Less-Than-Fair-Value Investigation

AGENCY: Enforcement and Compliance, International Trade Administration, Department of Commerce.

DATES: Applicable June 22, 2018.

FOR FURTHER INFORMATION CONTACT: Paul Walker at (202) 482-0413, AD/CVD Operations, Enforcement and Compliance, International Trade Administration, U.S. Department of Commerce, 1401 Constitution Avenue NW, Washington, DC 20230.

SUPPLEMENTARY INFORMATION:

Background

On February 15, 2018, the Department of Commerce (Commerce) initiated less-than-fair-value (LTFV) investigation of imports of cast iron soil pipe from the People's Republic of China (China).¹ Currently, the preliminary determination is due no later than July 5, 2018.

¹ See Cast Iron Soil Pipe from the People's Republic of China: Initiation of Less-Than-Fair-Value Investigation, 83 FR 8053 (February 23, 2018).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioners ² submit a timely request for a postponement; or (B) Commerce concludes that the parties concerned are cooperating, that the investigation is extraordinarily complicated, and that additional time is necessary to make a preliminary determination. Under 19 CFR 351.205(e), the petitioners must submit a request for postponement 25 days or more before the scheduled date of the preliminary determination and must state the reasons for the request. Commerce will grant the request unless it finds compelling reasons to deny the request.

² The petitioners are the Cast Iron Soil Pipe Institute and its individual members, AB&I Foundry, Charlotte Pipe & Foundry, and Tyler Pipe.

On June 1, 2018, the petitioners submitted a timely request that Commerce postpone the preliminary determination in this LTFV investigation.³ The petitioners stated that they request postponement to, among other things, permit Commerce to issue and receive supplemental questionnaires prior to the preliminary determination.⁴

³ See the petitioners' letter, “Cast Iron Soil Pipe from the People's Republic of China: Request to Extend the Preliminary Determination,” dated June 1, 2018.

⁴ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than August 24, 2018. In accordance with section 735(a)(1) of the Act and 19 CFR 351.210(b)(1), the deadline for the final determination of this investigation will continue to be 75 days after the preliminary determination, unless postponed at a later date.

This notice is issued and published pursuant to section 733(c)(2) of the Act and 19 CFR 351.205(f)(1).

Dated: June 15, 2018.
Gary Taverman,
Deputy Assistant Secretary for Antidumping and Countervailing Duty Operations, performing the non-exclusive functions and duties of the Assistant Secretary for Enforcement and Compliance.

[FR Doc. 2018-13422 Filed 6-21-18; 8:45 am]

BILLING CODE 3510-DS-P